DEPARTMENT OF ENERGY

Federal Energy Regulatory Commission

[Docket No. EL16-57-000]

Constellation Power Source Generation, LLC; Notice of Institution of Section 206 Proceeding and Refund Effective Date

On May 19, 2016, the Commission issued an order in Docket No. EL16-57-000, pursuant to section 206 of the Federal Power Act (FPA), 16 U.S.C. 824e (2012), instituting an investigation into the justness and reasonableness of Constellation Power Source Generation, LLC's reactive power rates for its fleet in the Baltimore Gas and Electric Zone of PJM Interconnection, L.L.C. Constellation Power Source Generation, LLC, 155 FERC ¶ 61,181 (2016).

The refund effective date in Docket No. EL16-57-000, established pursuant to section 206(b) of the FPA, will be the date of publication of this notice in the Federal Register.

Dated: May 19, 2016.
Nathaniel J. Davis, Sr.,
Deputy Secretary.

[FR Doc. 2016-12425 Filed 5-25-16; 8:45 am]

BILLING CODE 6717-01-P